DEPARTMENT OF COMMERCE

National Oceanic and Atmospheric Administration

[I.D. 061900C]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held July 10-14, 2000.

ADDRESSES: These meetings will be held at the Westin Beach Resort, 97000 South Overseas Highway, Key Largo, Florida; telephone: 305-852-5553.

Council address: Gulf of Mexico Fishery Management Council, 3018 U.S. Highway 301 North, Suite 1000, Tampa, FL 33619.

FOR FURTHER INFORMATION CONTACT: Wayne E. Swingle, Executive Director, Gulf of Mexico Fishery Management Council; telephone: 813-228-2815.

SUPPLEMENTARY INFORMATION:

Monday, July 10, 2000

9:30 a.m.-11:30 a.m.—Convene the Stone Crab Management Committee to discuss Stone Crab Amendment 7. The Stone Crab amendment proposes to extend the trap certificate program for the commercial stone crab fishery adopted by the state of Florida into the federal waters off west Florida. The Florida Fish and Wildlife Conservation Commission, after working with the stone crab industry and the Council over the past 4 years, has adopted by rule a trap certificate program that will gradually reduce the number of traps over a 30-year period. The Florida legislature has approved the portion of this program pertaining to licenses and fees. The committee will make recommendations for the full Council to take final action on Thursday morning.

1 p.m.-3:30 p.m.—Convene the Shrimp Management Committee to review an options paper for an amendment to require vessel and operator permits, and receive a National Marine Fisheries Service(NMFS) report on the status of the shrimp stocks.

3:30 p.m.-4:30 p.m.—Convene the Sustainable Fisheries Committee to discuss resubmission of the Sustainable Fisheries Act (SFA) Amendment Bycatch Reporting Measures.

4:30 p.m.-5:30 p.m.—Convene the Budget Committee to review the status of the CY2000 budget and CY1999 budget extension.

Tuesday, July 11, 2000

8 a.m.-12 noon—Convene the Reef Fish Management Committee to receive a report on the status of the jewfish stock, to review and discuss red snapper and grouper stock restoration scenarios, and to select stock assessments to be completed by the NMFS Southeast Fisheries Science Center in FY 2001.

1:30 p.m.-3:30 p.m.—Convene the Joint Marine Reserves/Reef Fish Management Committees to discuss a Generic Amendment Addressing the Establishment of Tortugas Marine Reserves, which proposes to establish the Tortugas South marine reserve that will encompass the Riley's Hump mutton snapper spawning aggregation site established by the Council in 1994. The total area of the proposed Tortugas South marine reserve is 60 square nautical miles. The amendment also proposes to create the Tortugas North marine reserve cooperatively with the Florida Keys National Marine Sanctuary program, the state of Florida, and the National Park system, which will encompass an area of 120 square nautical miles. The portion proposed to be established by the Council is 13 square nautical miles. The Committees' recommendations on this amendment will be considered by the full Council on Thursday morning.

3:30 p.m.-5 p.m.—Convene the Habitat Protection Committee to hear a presentation on the Williams Gas Pipeline Project and the Gulfstream Gas Pipeline Project.

Wednesday, July 12, 2000

9 a.m.-11:30 a.m.—Convene the Mackerel Management Committee to approve a letter to the states and the South Atlantic Fishery Management Council (SAFMC)on the sale of fish, and to approve the Dolphin/Wahoo Fishery Management Plan for public hearings.

1 p.m.-The Council will convene.

1:15 p.m.-5 p.m.—Receive public testimony on Stone Crab Amendment 7, Resubmission of the Section on Bycatch Reporting in the SFA Amendment, and the Generic Amendment Addressing Establishment of the Tortugas 2000 Marine Reserve.

Thursday, July 13, 2000

8:30 a.m.-9:30 a.m.—Continue public testimony if necessary.

9:30 a.m.-10 a.m.—Receive a report of the Stone Crab Management Committee.

10 a.m.-10:30 a.m.—Receive a report of the Joint Marine Reserves and Reef Fish Management Committees.

10:30 a.m.-12 noon—Receive a report of the Reef Fish Management Committee.

1:30 p.m.-2 p.m.—Receive a report of the Mackerel Management Committee.

2 p.m.-2:30 p.m.—Receive a report of the Shrimp Management Committee.

2:30 p.m.-3 p.m.—Receive a report of the Sustainable Fisheries Management Committee.

3 p.m.-3:15 p.m.—Receive a report of the Habitat Protection Committee.

3:15 p.m.-3:30 p.m.—Receive a report of the Budget Committee.

3:30 p.m.-3:45 p.m.—Receive a report of the Council Chairman's Meeting.

3:45 p.m.-4 p.m.—Receive the SAFMC Liaison report.

4 p.m.-4:15 p.m.—Receive a report on the Marine Recreational Symposium.

4:15 p.m.-4:30 p.m.—Receive a report on the Joint U.S./Canadian Observer Workshop.

4:30 p.m.-4:45 p.m.—Receive enforcement reports.

4:45 p.m.-5 p.m.—Receive the NMFS Regional Administrator's Report.

5 p.m.-5:15 p.m.—Receive Director's Reports.

5:15 p.m.-5:30 p.m.—Other Business.

5:30 p.m.-5:45 p.m.—Election of Temporary Chairman and Vice Chairman.

Although non-emergency issues not contained in this agenda may come before the Council for discussion, in accordance with the Magnuson-Stevens Fishery Conservation and Management Act, these issues may not be the subject of formal Council action during these meetings. Council action will be restricted to those issues specifically listed in this notice and any issues arising after publication of this notice that require emergency action under section 305(c) of the Magnuson-Stevens Fishery Conservation and Management Act, provided the public has been notified of the Council's intent to take final actions to address such emergencies. A copy of the Committee schedule and agenda can be obtained by calling (813) 228-2815.

These meetings are physically accessible to people with disabilities. Requests for sign language interpretation or other auxiliary aids should be directed to Anne Alford at the Council (see ADDRESSES) at least 5 days prior to the meeting date.

Dated: June 19, 2000.
Richard W. Surdi,
Acting Director, Office of Sustainable Fisheries, National Marine Fisheries Service.

[FR Doc. 00-15974 Filed 6-22-00; 8:45 am]

BILLING CODE 3510-22-F